DEPARTMENT OF THE INTERIOR

Office of the Secretary

Fish and Wildlife Service

Bureau of Land Management

Minerals Management Service

Bureau of Indian Affairs

National Park Service

Bureau of Reclamation

Geological Survey

Alternate Agency Mail Sites for Submission of Comments

AGENCIES: Fish and Wildlife Service, Bureau of Land Management, Minerals Management Service, Bureau of Indian Affairs, National Park Service, Bureau of Reclamation and the Geological Survey; Interior.

ACTION: Notice of alternate agency mail sites for submission of comments to rulemaking documents, notices, and any other relevant Departmental documents under public review and for which comments have been solicited.

SUMMARY: The Office of the Secretary, along with its various agencies, gives notice to the public of alternate agency mail site for submission of comments to rulemaking documents, notices, and any other relevant Departmental documents under public review for which comments have been solicited and for which a Washington, DC, address was indicated. In addition, because the Department Internet access, including receipt of outside Email, has been shut down under court order until further notice, these alternate agency mail sites should be used instead of any electronic transmittal of public comments, unless otherwise noted by the specific agency. This notice does not apply to written comments that are to be sent to addresses outside of Washington, DC.

DATES: This notice is effective January 29, 2002.

ADDRESSES: The alternate mail sites for the submission of comments to the Department's agencies are as follows:

• Fish and Wildlife Service, 4401 North Fairfax Drive, Office of Policy, Directives and Management, Arlington, VA 22203.

• Bureau of Land Management, Eastern States Office, 7450 Boston Blvd., Springfield, VA 22153.

• Minerals Management Service. All comments will be received by the Regional Offices, as indicated in the agency's request for submission of comments, unless otherwise noted.

• Bureau of Indian Affairs, Eastern Office, Office of the Regional Director, 711 Stewarts Ferry Pike, Nashville, TN 37214.

• National Park Service. Comments will be received on a park-specific basis, as indicated in the agency's request for public comments, unless otherwise noted.

• Bureau of Reclamation. Comments will be received on a project-specific basis, as indicated in the agency's request for public comments, unless otherwise noted.

• US Geological Survey, The National Center, 12201 Sunrise Valley Drive, Reston, VA 20192.

FOR FURTHER INFORMATION CONTACT: Duncan L. Brown, Office of the Secretary, Washington, DC 202/208-4582.

SUPPLEMENTARY INFORMATION: The purpose of this notice is to ensure that the public's comments on rulemaking documents, notices, and other relevant documents for which comments have been solicited and for which a Washington, DC, address was indicated, are received by the Department's agencies for appropriate consideration. This action is taken due to the closure of the Brentwood Postal Facility, Washington, DC, on October 21, 2001, because of the threat of anthrax contamination. While some mail from this facility has been retrieved, the delay in mail delivery to the Department's agencies in the Washington, DC, area continues because of enhanced screening of all mail coming to the agencies' Washington offices. This action today will ensure that comments that were to be sent to Washington, DC, are retrieved in a timely manner. A separate postal facility will now receive incoming comments and the agencies' offices identified in the ADDRESSES section of this notice (outside Washington, DC, postal delivery) will take appropriate measures to transmit public comments to the respective offices.

The Department's agencies normally encourage electronic transmittal of comments under directives for more efficient government. However, a Federal district court has ordered the shutdown of the Department's internet access, including outside Email. Consequently, the Department's agencies ask that the public submit only written comments to those agency sites as identified in the ADDRESSES section of this notice until further notice, because Department is not able to receive electronic submissions at this time.

Dated: January 18, 2002.
P. Lynn Scarlett,
Assistant Secretary—Policy Management and Budget.

[FR Doc. 02-1916 Filed 1-28-02; 8:45 am]

BILLING CODE 4310-RK-M